DEPARTMENT OF THE INTERIOR

National Park Service

Notice of Public Meeting for the National Park Service (NPS) Alaska Region's Subsistence Resource Commission (SRC) Program

AGENCY: National Park Service, Interior.

ACTION: Notice of public meeting for the National Park Service (NPS) Alaska Region's Subsistence Resource Commission (SRC) program.

SUMMARY: The Gates of the Arctic National Park SRC will meet to develop and continue work on NPS subsistence hunting program recommendations and other related subsistence management issues. The NPS SRC program is authorized under Title VIII, Section 808 of the Alaska National Interest Lands Conservation Act, Public Law 96-487, to operate in accordance with the provisions of the Federal Advisory Committee Act.

Public Availability of Comments: This meeting is open to the public and will have time allocated for public testimony. The public is welcome to present written or oral comments to the SRC. This meeting will be recorded and meeting minutes will be available upon request from the park superintendent for public inspection approximately six weeks after each meeting. Before including your address, telephone number, e-mail address, or other personal identifying information in your comment, you should be aware that your entire comment—including your personal identifying information—may be made publicly available at any time. While you can ask us in your comment to withhold your personal identifying information from public review, we cannot guarantee that we will be able to do so.

Gates of the Arctic National Park SRC Meeting Date and Location: The Gates of the Arctic National Park SRC meeting will be held on Tuesday, November 9, 2010, and Wednesday, November 10, 2010, from 9 a.m. to 5 p.m. at Sophie Station Hotel, 1717 University Avenue, Fairbanks, AK 99709, (907) 479-3650. The meeting may end early if all business is completed.

For Further Information On the Gates of the Arctic National Park SRC Meeting Contact: Dave Krupa, Subsistence Manager, (907) 455-0631, Gates of the Arctic National Park and Preserve, 4175 Geist Road, Fairbanks, AK 99703, or Clarence Summers, Subsistence Manager, NPS Alaska Regional Office, at (907) 644-3603.

Proposed SRC Meeting Agenda:

The proposed meeting agenda includes the following:

1. Call to order

2. SRC Roll Call and Confirmation of Quorum

3. SRC Chair and Superintendent's Welcome and Introductions

4. Approval of Minutes from Last SRC Meeting

5. Administrative Announcements

6. Review and Approve Agenda

7. SRC Member Reports

8. Public and Other Agency Reports

9. Park Subsistence Manager's Report

10. Park Staff Reports

a. Resource Management Update

b. Ranger Division Update

c. Subsistence Uses of Horns, Antlers, Bones and Plants Environmental Assessment (EA) Update

11. Federal Subsistence Board Update

12. Alaska Board of Game Update

13. Old Business

14. New Business

15. Public and other Agency Comments

16. SRC Work/Training Session

17. Set Time and Place for next SRC Meeting

18. Adjournment

SRC meeting location and dates may need to be changed based on lack of quorum, inclement weather or local circumstances. If the meeting date and location are changed, a notice will be published in local newspapers and announced on local radio stations prior to the meeting date.

Victor W. Knox,
Deputy Regional Director, Alaska.

[FR Doc. 2010-25830 Filed 10-21-10; 8:45 am]

BILLING CODE M